DEPARTMENT OF LABOR

Employment and Training Administration

Notice of Availability of Funds and Funding Opportunity Announcement for Disability Employment Initiative Cooperative Agreements

AGENCY: Employment and Training Administration, Labor.

ACTION: Notice of Funding Opportunity Announcement (FOA).

Funding Opportunity Number: FOA-ETA-16-07.

SUMMARY: The Employment and Training Administration (ETA), U.S. Department of Labor (DOL, or the Department, or we), announces the availability of approximately $15.6 million in grant funds authorized by Section 169, subsection (b), of the Workforce Innovation and Opportunity Act (WIOA).

The purpose of this program is to provide funding to expand the capacity of American Job Centers (AJCs), also known as One-Stop Centers, to improve the employment outcomes of three population focus areas: (1) Adults (ages 18 and older) with visible and non-visible disabilities, including those who have acquired disabilities in adulthood; (2) youth (ages 14-24) with visible and non-visible disabilities, including those who have chronic health conditions; and (3) individuals (ages 14 and older) with significant disabilities. The DEI plans to accomplish this by increasing their participation in career pathways systems and successful existing programs in the public workforce system in partnership with vocational rehabilitation, community colleges and other education, human service, and business partners. Capitalizing on the flexibility that the career pathways model provides to use innovative service delivery strategies, grantees will use their award to support job-driven approaches in their pre-existing career pathway systems and programs. This will further equip individuals with disabilities with the skills, competencies, and credentials necessary to help them obtain in-demand jobs, increase earnings, and advance their careers.

The Department intends to award at least one cooperative agreement in each of three population focus areas: (1) Adults (ages 18 and older) with visible and non-visible disabilities, including those who have acquired disabilities in adulthood; (2) youth (ages 14-24) with visible and non-visible disabilities, including those who have chronic health conditions; and (3) individuals (ages 14 and older) with significant disabilities.

We expect to fund approximately 8 cooperative agreements (as defined in 2 CFR 200.24) to state workforce agencies, ranging from $1.5 million to $2.5 million each. Applicants may also include entities receiving funds under WIOA Section 166 grants. An eligible applicant is a tribe, tribal consortium, or tribal non-profit organization that receives funds under WIOA Section 166 Indian and Native American Program. States that received DEI Round VI funds are not eligible for funding under this FOA.

The complete FOA and any subsequent FOA amendments in connection with this funding opportunity are described in further detail on ETA's Web site at https://www.doleta.gov/grants/find_grants.cfm or on http://www.grants.gov. The Web sites provide application information, eligibility requirements, review and selection procedures, and other program requirements governing this funding opportunity.

DATES: The closing date for receipt of applications under this announcement is August 1, 2016. Applications must be received no later than 4:00:00 p.m. Eastern Time.

FOR FURTHER INFORMATION CONTACT: Erika Beasley, 200 Constitution Avenue NW., Room N-4716, Washington, DC 20210; Telephone: 202-693-3906.

Jimmie Curtis is the Grant Officer for the Funding Opportunity Announcement.

Signed June 29, 2016, in Washington, DC.
Donna Kelly,
Grant Officer, Employment and Training Administration.

[FR Doc. 2016-15830 Filed 7-1-16; 8:45 am]

BILLING CODE 4510-FN-P